FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Accelerated Maritime Services, LLC dba AMS Breakbulk Lines (NVO & OFF) 4008 Louetta, Suite 183, Spring, TX 77388, Officer: Cory C. Guccione, President (QI), Application Type: New NVO & OFF License

Barcol International Corporation (NVO & OFF), 6952 NW 51st Street, Miami, FL 33166, Officers: Juan Salvat, President (QI), Carmen S. Salvat, Vice President, Application Type: Add NVO Service

Bayshore Logistics & Services, LLC (NVO & OFF), 909 Westfield Avenue, Elizabeth, NJ 07208, Officers: Raquel Velez, Operating Manager (QI), Jose Moreno, Member, Application Type: New NVO & OFF License

Canaan Shipping USA LLC (NVO & OFF), 100 Oceangate, 12th Floor, Long Beach, CA 90802, Officer: Fred Chou, Manager (QI), Application Type: New NVO & OFF License

Chester Transport, Inc. (NVO & OFF), 46090 Lake Center Plaza, Suite 208, Sterling, VA 20165, Officer: Steven McDonald, President (QI), Application Type: New (NVO & OFF)

Gruden USA Inc. dba Lybra Overseas Shipping (NVO), 51 Newark Street, Suite 302, Hoboken, NJ 07030, Officers: Luca De Pieri, President (QI), Carmen T. Rodriquez, Secretary, Application Type: Additional QI

La Plaza Embarque Limited Liability Company (NVO & OFF), 328 Lawrence Street, Perth Amboy, NJ 08861, Officer: Edward Pantaleon, Manager (QI), Application Type: New NVO & OFF License

Latunde Ayopo Sapara dba L.A.S. Shipping (NVO & OFF), 550 Ginger Lane, Suite 18, Calumet City, IL 60409, Officer: Latunde A. Sapara, Chief Executive Manager (QI), Application Type: Business Structure Change to L.A.S. Shipping L.L.C. & Add NVO Service

Logistics International Parcel Shipping Transport LLC (NVO), 182 West Melrose Avenue, Suite 2, South Elgin, IL 60177, Officers: Marilou G. Pedres, Operation Manager (QI), Jroel G. Pedres, President, Application Type: New NVO License

Steam Logistics, LLC dba Steam Ocean dba Steam Air (NVO & OFF), 1110 Market Street, Suite 316A, Chattanooga, TN 37402, Officers: Bradley S. Kemp, Chief Operating Officer (QI), Theodore W. Alling, Member, Application Type: New NVO & OFF License

Summit Freight International Inc. (NVO), 4885 Rockford Ridge Drive, Marietta, GA 30066, Officers: Benjamin Shi, CEO (QI), Gullian Cao, President, Application Type: QI Change

Tosie, LLC (NVO), 6411 Ashcroft Drive, Suite C, Houston, TX 7081, Officers: Pius S. Tomdio, President (QI), Joseph Siewe, Manager, Application Type: New NVO License

TradeLink Systems, Inc. (OFF), 999 Broadway, Suite 101, Saugus, MA 01906, Officer: Dana A. Goodwin, President (QI), Application Type: New OFF License

Uniway Logistics, Inc. (NVO), 516 Daroca Avenue, San Gabriel, CA 91775, Officer: Michelle E. Lee, President (QI), Application Type: New NVO License

Venezolana de Fletamentos Cavefle, LLC (NVO & OFF), 12190 NW 98th Avenue, Bay 7, Hialeah, FL 33018, Officers: Genesis Diaz, Manager (QI), Veronica Alcestte, Manager, Application Type: New NVO & OFF License

Worldcraft Logistics LLC (NVO & OFF), 1313 W. Holt Avenue, Pomona, CA 91768, Officer: Jimmy Dai N. Tran, Chief Executive Manager (QI), Application Type: New NVO & OFF License

WWI International Corp. (NVO & OFF), 2223 Clifton Place, Hoffman Estates, IL 60169, Officer: Syed O. Ahmed, President (QI), Application Type: Name Change to BMW Freight Solution Inc & Add NVO Service

By the Commission.
Dated: March 22, 2013.
Karen V. Gregory,
Secretary.

[FR Doc. 2013-07067 Filed 3-26-13; 8:45 am]

BILLING CODE 6730-01-P